DEPARTMENT OF AGRICULTURE

Forest Service

South Deep Management Project, Colville National Forest, Stevens County, WA

AGENCY: Forest Service, USDA.

ACTION: Notice of intent to prepare an environmental impact statement.

SUMMARY: The Forest Service, USDA, will prepare an environmental impact statement (EIS) on a proposal to conduct vegetation and road management, and implement riparian and wetlands management. The Proposed Action will be in compliance with the 1988 Colville National Forest Land and Resource Management Plan (Forest Plan) as amended, which provides the overall guidance for management of this area. The Proposed Action is within portions of the South Deep Creek, Little Smackout Creek, Meadow Creek, Rocky Creek, Kolle Creek, Clinton Creek, Rogers Creek, Kenny Creek, and Scott Creek subwatersheds on the Three Rivers Ranger District and scheduled for implementation in fiscal year 2003. The Colville National Forest invites written comments and suggestions on the scope of the analysis. The agency will give notice of the full environmental analysis and decision making process so interested and affected people may be able to participate and contribute in the final decision.

DATES: Comments concerning the scope of the analysis should be postmarked by February 1, 2002.

ADDRESSES: Send written comments and suggestions concerning the management of this area to Sherri Schwenke, District Range, 255 West 11th, Kettle Falls, Washington, 99141. Comments may also be sent by FAX (509-738-7701). Include your name and mailing address with your comments so documents pertaining to this project may be mailed to you.

FOR FURTHER INFORMATION CONTACT: Questions about the Proposed Action and EIS should be directed to Sherri Schwenke, District Ranger, or to Tom Pawley, Planning Assistant, 255 West 11th Ave, Kettle Falls, Washington 99141 (phone: 509-738-7700).

SUPPLEMENTARY INFORMATION: The Proposed Action includes vegetation management using commercial and precommercial thinning on approximately 6,100 acres. Prescribed Fire may be applied on up to 6,500 acres. The road management projects will include local governments and adjacent landowners in the evaluation and development of a road strategy for these drainages. Part of that strategy will include both building and closing roads. This proposal includes construction of approximately 19 miles of new roads. Research studies are proposed as a part of the South Deep Management Project in conjunction with the University of Washington, Washington State University, the University of Idaho, and the U.S. Forest Service Pacific Northwest Research Station. Studies concerning soil compaction, erosion, sedimentation resulting from active stream corridor treatments, silviculture, harvesting systems, and use of a computerized landscape management system are included in the project design.

The project would be located approximately 15 miles northeast of Colville, Washington, along the Aladdin Highway. The South Deep Management Project is proposed within the South Deep Creek, Little Smackout Creek, Meadow Creek, Rocky Creek, Kolle Creek, Clinton Creek, Rogers Creek, Kenny Creek, and Scott Creek subwatershed on the Three Rivers Ranger District. This analysis will evaluate a range of alternatives for implementation of the project activities. The area being analyzed is approximately 38,300 acres, of which 29,740 acres are National Forest System lands. The other ownership areas are included only for analysis of effects. The project area does not include any wilderness, RARE II, or other inventoried roadless land.

The preliminary issues that have been identified include: water quality and watershed restoration; forest stand density; uses of unroaded areas; forest road management and maintenance; and soil stabilization. A range of alternatives will be considered, including a no-action alternative

Initial scoping began in October, 1998. The scoping process will include the following: identify and clarify issues; identify key issues to be analyzed in depth; explore alternatives based on themes which will be derived from issues recognized during scoping activities; and identify potential environmental effects of the Proposed Action and alternatives. The Forest Service is seeking information, comments, and assistance from other agencies, organizations, Indian Tribes, and individuals who may be interested in or affected by the Proposed Action. This input will be used in preparation of the draft EIS. Your comments are appreciated throughout the analysis process.

Comments received in response to this notice, including names and addresses of those who comment, will be considered part of the public record on this proposed action and will be available for public inspection. Comments submitted anonymously will be accepted and considered, however, those who submit anonymous comments will not have standing to appeal the subsequent decision under 36 CFR Part 215. Additionally, pursuant to 7 CFR 1.27(d), any person may request the agency to withhold a submission from the public record by showing how the Freedom of Information Act (FOIA) permits such confidentiality. Persons requesting such confidentiality should be aware that under the FOIA, confidentiality may be granted in only very limited circumstances, such as to protect trade secrets. The Forest Service will inform the requester of the agency's decision regarding the request for confidentiality, and where the request is denied, the agency will return the submission and notify the requester that the comments may be resubmitted with or without name and address within a specified number of days.

The draft EIS is to be filed with the Environmental Protection Agency (EPA) and to be available for public review by September, 2002. The EPA will publish a Notice of Availability of the draft EIS in the Federal Register. The comment period on the draft EIS will be 45 days from the date the EPA notice appears in the Federal Register. At that time, copies of the draft EIS will be distributed to interested and affected agencies, organizations, Indian Tribes, and members of the public for their review and comment.

The Forest Service believes, at this early stage, it is important to give reviewers notice of several court rulings related to public participation in the environmental review process. First, reviewers of draft EIS must structure their participation in the environmental review of the proposal so that it is meaningful and alerts an agency to the reviewer's position and contentions. Vermont Yankee Nuclear Power Corp. v. NRDC;, 435 U.S. 519, 553 (1978). Also, environmental objections that could be raised at the draft EIS stage but are not raised until after completion of the final EIS may be waived or dismissed by the courts. City of Angoon v. Hodel, 803 F. 2d 1016, 1022 (9th Cir, 1986) and Wisconsin Heritages, Inc. v. Harris, 490 F. Supp. 1334, 1338 (E.D. Wis. 1980). Because of these court rulings, it is very important that those interested in this Proposed Action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

The final EIS is scheduled to be available by December, 2002. In the final EIS, the Forest Service is required to respond to substantive comments received during the comment period for the draft EIS. The Responsible Official is Colville National Forest Supervisor, Nora Rasure. She will decide which, if any, of the alternatives will be implemented. Her decision and rationale for the decision will be documented in the Record of Decision, which will be subject to Forest Service Appeal Regulations (36 CFR part 215).

Dated: December 17, 2001.
Nora B. Rasure,
Forest Supervisor.

[FR Doc. 01-32171 Filed 12-31-01; 8:45 am]

BILLING CODE 3410-11-M